DEPARTMENT OF INTERIOR

Fish and Wildlife Service

Notice of Availability of the Final Recovery Plan for the Pecos Sunflower (Helianthus paradoxus)

AGENCY: Fish and Wildlife Service, Interior.

ACTION: Notice of document availability.

SUMMARY: The U.S. Fish and Wildlife Service (Service) announces the availability of the Final Recovery Plan for the Pecos sunflower (Helianthus paradoxus). The Pecos sunflower is a wetland annual plant that grows on wet, alkaline soils at spring seeps, wet meadows and pond margins. It occurs in seven widely spaced populations in west-central and eastern New Mexico and west Texas. Loss and/or alteration of wetland habitat is the primary threat to Pecos sunflower, primarily by surface water diversion and wetland filling for agriculture and recreational uses, and groundwater pumping and aquifer depletion for municipal uses. The Recovery Plan outlines the necessary criteria, objectives, and actions to reduce these threats and accomplish the goal of delisting the Pecos sunflower.

ADDRESSES: A copy of the Recovery Plan may be requested by contacting the U.S. Fish and Wildlife Service, New Mexico Ecological Services Field Office, 2105 Osuna NE., Albuquerque, New Mexico, 87113. The Recovery Plan can also be obtained from the Internet at http://www.fws.gov/endangered/recovery/.

FOR FURTHER INFORMATION CONTACT: Field Supervisor, New Mexico Ecological Services Field Office, at the above address; telephone 505/346-2525, facsimile 505/346-2542.

SUPPLEMENTARY INFORMATION:

Background

Pecos sunflower was listed as threatened under the Endangered Species Act of 1973 (Act), as amended, on October 20, 1999 (64 FR 56582-56590). The threats facing the survival and recovery of this species are the loss and alteration of its wetland habitat due to aquifer depletions, diversions of surface water, and filling wetlands for conversion to dry land; competition from non-native plant species, including Russian olive and tamarisk; excessive livestock grazing; and highway maintenance and mowing. The Final Recovery Plan includes scientific information about the species and provides the objectives, criteria, and actions needed to delist the species. Recovery actions designed to achieve the objectives and criteria include identifying and securing core conservation habitats essential for the long-term survival of this species, continuing life history, population, and habitat studies, ensuring compliance with existing regulations, and promoting opportunities for voluntary conservation of the species.

Restoring an endangered or threatened animal or plant to the point where it is again a secure, self-sustaining member of its ecosystem is a primary goal of the Service's endangered species program. To help guide the recovery effort, the Service is working to prepare recovery plans for most of the listed species native to the United States. Recovery plans describe actions considered necessary for conservation of listed species, establish criteria for downlisting or delisting those species, and estimate time and costs for implementing the recovery measures needed.

The Act requires the development of recovery plans for listed species unless such a plan would not promote the conservation of a particular species. Section 4(f) of the Act, as amended in 1988, requires that public notice and an opportunity for public review and comment be provided during recovery plan development. The Service considers all information presented during a public comment period prior to approval of each new or revised recovery plan. The Service and others also take these comments into account in the course of implementing recovery plans.

A Draft Recovery Plan for Pecos sunflower was available for a 30-day public comment period beginning July 2, 2004 (69 FR 40409). The Service also requested and received peer review from two independent specialists with expertise regarding Pecos sunflower and closely related species. During the comment period, we received letters from seven individuals and organizations, including both peer reviewers. In response to two requests to extend the public comment period, we re-opened the comment period for an additional 30 days on September 14, 2004 (69 FR 55447). No additional comments were received during that time. The recovery plan was modified to address many of the comments and specific responses for substantive comments are summarized in appendix A of the Final Recovery Plan.

Authority

This document is published under the authority of the Endangered Species Act of 1973, as amended (16 U.S.C. 1531 et seq.).

Dated: August 17, 2005.
H. Dale Hall,
Regional Director.

[FR Doc. 05-18324 Filed 9-14-05; 8:45 am]

BILLING CODE 4310-55-P